DEPARTMENT OF TRANSPORTATION

Federal Aviation Administration

Notice of Intent To Rule on Request To Dispose 9.97 Acres of Airport Land at Manchester-Boston Regional Airport, Manchester, NH

AGENCY: Federal Aviation Administration (FAA), DOT.

ACTION: Request for public comments.

SUMMARY: Notice is being given that the FAA is considering a request from the City of Manchester to dispose of 9.97 acres of land at Manchester-Boston Regional Airport, Manchester, NH. The disposal of the 5 parcels corrects a 100-year lease that produced no revenue stream for the properties over the term of the lease. The 5 parcels are not required for existing or future aviation development and are currently developed as non-aeronautical uses. As such, the disposal will not affect the airport's future development needs. The land disposal proceeds will be deposited in the airport's operation and maintenance account.

DATES: Comments must be received on or before September 6, 2022.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Authority: 49 United States Code 47107(h)(2).

Issued in Burlington, Massachusetts on August 1, 2022.
Julie Seltsam-Wilps,
Deputy Director, ANE-600.

[FR Doc. 2022-16685 Filed 8-3-22; 8:45 am]

BILLING CODE 4910-13-P